DEPARTMENT OF COMMERCE

National Oceanic and Atmospheric Administration

Science Advisory Board (SAB); Meeting

AGENCY: Office of Oceanic and Atmospheric Research (OAR) National Oceanic and Atmospheric Administration (NOAA) Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Thursday November 17, 2016 from 9:45 a.m. EST to 5:45 p.m. EST and on Friday November 18, 2016 from 8:30 a.m. EST to 1:45 p.m. EST. These times and the agenda topics described below are subject to change. Please refer to the Web page www.sab.noaa.gov/SABMeetings.aspx for the most up-to-date meeting times and agenda.

Place: The meeting will be held at The Nature Conservancy, 4245 North Fairfax Drive, Suite 100, Arlington, Virginia 22203.

Status: The meeting will be open to public participation with a 15-minute public comment period on November 17 from 5:30-5:45 p.m. EST (check Web site to confirm time). The SAB expects that public statements presented at its meetings will not be repetitive of previously submitted verbal or written statements. In general, each individual or group making a verbal presentation will be limited to a total time of two (2) minutes. Individuals or groups planning to make a verbal presentation should contact the SAB Executive Director by November 10, 2016 to schedule their presentation. Written comments should be received in the SAB Executive Director's Office by November 10, 2016, to provide sufficient time for SAB review. Written comments received by the SAB Executive Director after November 10, 2016, will be distributed to the SAB, but may not be reviewed prior to the meeting date. Seating at the meeting will be available on a first-come, first-served basis.

Special Accommodations: These meetings are physically accessible to people with disabilities. Requests for special accommodations may be directed no later than 12:00 p.m. on November 10, 2016, to Dr. Cynthia Decker, SAB Executive Director, SSMC3, Room 11230, 1315 East-West Highway, Silver Spring, MD 20910; Email: Cynthia.Decker@noaa.gov.

Matters To Be Considered: The meeting will include the following topics: (1) Report from the Review of the Cooperative Institute for Research in Environmental Sciences (CIRES); (2) Updates from the NOAA Administrator and Chief Scientist; (3) Discussion on the Ecosystem Services Valuation Report; (4) Discussion on the GOES-R Level 0 Data report; (5) Discussion on RESTORE Act Metrics and Communication report; (6) SAB Strategy Discussion and Implications for NOAA; and (7) Discussion of the SAB Working Group Concept of Operations.

FOR FURTHER INFORMATION CONTACT: Dr. Cynthia Decker, Executive Director, Science Advisory Board, NOAA, Room 11230, 1315 East-West Highway, Silver Spring, MD 20910. Email: Cynthia.Decker@noaa.gov; or visit the NOAA SAB Web site at http://www.sab.noaa.gov.

Dated: September 14, 2016.
Jason Donaldson,
Chief Financial Officer, Office of Oceanic and Atmospheric Research, National Oceanic and Atmospheric Administration.

[FR Doc. 2016-22616 Filed 9-19-16; 8:45 am]

BILLING CODE 3510-KD-P